DEPARTMENT OF ENERGY

Federal Energy Regulatory Commission

[Project Nos. 1855-049, 1892-029, 1904-077, 2077-106, 2323-214]

TransCanada Hydro Northeast Inc.; TC Hydro Inc.; Notice of Application for Transfer of Licenses and Soliciting Comments and Motions To Intervene

On November 18, 2016, the above mentioned transferor and TC Hydro Inc. (transferee) filed an application for transfer of licenses for the following projects.

Project No. | Project name | Location
P-1855-049 | Bellows Falls Project | Connecticut River, Cheshire and Sullivan counties, NH and Windham and Windsor counties, VT.
P-1892-029 | Wilder Project | Connecticut River, Windsor and Orange counties, VT and Grafton County, NH.
P-1904-077 | Vernon Project | Connecticut River, Grafton County, NH and Caledonia County, VT.
P-2077-106 | Mile Falls Hydroelectric Project | Connecticut River, Grafton County, NH and Caledonia County, VT.
P-2323-214 | Deerfield River Project | Windham and Bennington, counties, VT and Franklin and Berkshire counties, MA.

The transferor and transferee seek Commission approval to transfer the licenses for the above mentioned projects from the transferor to the transferee.

Applicant Contacts: For Transferor and Transferee: Ms. Erin A. O'Dea, Legal Counsel, TransCanada U.S. Northeast, 110 Turnpike Road, Suite 300, Westborough, MA 01581, Phone: 508-599-1434, Email: erin_odea@transcanada.com. And John A. Whittaker, IV, Winston & Strawn LLP, and 1700 K Street NW., Washington, DC 20006-3817, Phone: 202-282-5766, Email: jwhittaker@winston.com.

FERC Contact: Patricia W. Gillis, (202) 502-8735.

Deadline for filing comments and motions to intervene: 30 days from the issuance date of this notice, by the Commission. The Commission strongly encourages electronic filing. Please file motions to intervene and comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-1855-049, P-1892-029, P-1904-077, P-2077-106, or P-2323-214.

Dated: December 2, 2016.
Kimberly D. Bose,
Secretary.

[FR Doc. 2016-29619 Filed 12-9-16; 8:45 am]

BILLING CODE 6717-01-P